DEPARTMENT OF HOUSING AND URBAN DEVELOPMENT

Office of Federal Housing Enterprise Oversight

12 CFR Part 1710

RIN 2550-AA20

Corporate Governance

AGENCY: Office of Federal Housing Enterprise Oversight, HUD.

ACTION: Proposed rule; withdrawal.

SUMMARY: The Office of Federal Housing Enterprise Oversight (OFHEO) is withdrawing its notice of proposed rulemaking on Corporate Governance that was published in the Federal Register on April 10, 2001. The proposal is withdrawn at this time due to the possible confusion it could create as to the standards applicable to anticipated appointees to the Boards of Directors of the Enterprises.

DATES: The proposed rule published on April 10, 2001 (66 FR 18709) is withdrawn as of April 20, 2001.

FOR FURTHER INFORMATION CONTACT: Alfred M. Pollard, General Counsel, telephone (202) 414-3788 (not a toll-free number); Office of Federal Housing Enterprise Oversight, Fourth Floor, 1700 G Street, NW., Washington, DC 20552. The telephone number for the Telecommunications Device for the Deaf is (800) 877-8339.

SUPPLEMENTARY INFORMATION: On April 10, 2001, the Office of Federal Housing Enterprise Oversight proposed a regulation to set forth minimum requirements with respect to corporate governance policies and procedures of the Federal National Mortgage Association and Federal Home Loan Mortgage Corporation (collectively the Enterprises). The proposed rule would, among other things, delineate the legal role and responsibilities of the members of the board of directors of the respective Enterprises. In light of the anticipated appointment by the President of the United States of new members to the boards of each Enterprise, the proposed rule is withdrawn at this time as likely to result in untimely confusion for the appointees as to the standards applicable to their positions. OFHEO anticipates reissuing the proposal. OFHEO requests that preparation and filing of any comments on the withdrawn proposal be withheld pending such reissuance.

Withdrawal of Notice of Proposed Rulemaking

Accordingly, for reasons stated in the preamble, the notice of proposed rulemaking that was published in the Federal Register on April 10, 2001 (66 FR 18709) is withdrawn.

Dated: April 16, 2001.
Armando Falcon, Jr.,
Director, Office of Federal Housing Enterprise Oversight.

[FR Doc. 01-9788 Filed 4-19-01; 8:45 am]

BILLING CODE 4220-01-P